DEPARTMENT OF DEFENSE

Office of the Secretary

National Security Education Board Group of Advisors Meeting

AGENCY: National Defense University.

ACTION: Notice of meeting.

SUMMARY: Pursuant to Public Law 92-463, notice is hereby given of a forthcoming meeting of the National Security Education Board Group of Advisors. The purpose of the meeting is to review and make recommendations to the Board concerning requirements established by the David L. Boren National Security Education Act, Title VIII of Public Law 102-183, as amended. The National Security Education Board Group of Advisors meeting is open to the public. The delay of this notice resulted from the short time-frame needed to coordinate the schedules of the various officials whose participation was judged essential to a meaningful public discussion.

DATES: September 13, 2005.

ADDRESSES: The Academy for Educational Development, Conference Center, 8th Floor, 1825 Connecticut Avenue, NW., Washington, DC 20009.

FOR FURTHER INFORMATION CONTACT: Dr. Edmond J. Collier, Director for Programs, National Security Education Program, 1101 Wilson Boulevard, Suite 1210, Rosslyn P.O. Box 20010, Arlington, Virginia 22209-2248; (703) 696-1991. Electronic mail address: colliere@ndu.edu.

Dated: August 25, 2005.
Jeannette Owings-Ballard,
OSD Federal Register Liaison Officer, Department of Defense.

[FR Doc. 05-17310 Filed 8-30-05; 8:45 am]

BILLING CODE 5001-06-M